ENVIRONMENTAL PROTECTION AGENCY

40 CFR Part 180

[EPA-HQ-OPP-2020-0728; FRL-9622-01-OCSPP]

Fluopicolide; Pesticide Tolerances

AGENCY: Environmental Protection Agency (EPA).

ACTION: Final rule.

SUMMARY: This regulation establishes tolerances for residues of fluopicolide in or on multiple commodities which are identified and discussed later in this document. Valent U.S.A. LLC requested these tolerances under the Federal Food, Drug, and Cosmetic Act (FFDCA).

DATES: This regulation is effective May 23, 2022. Objections and requests for hearings must be received on or before July 22, 2022 and must be filed in accordance with the instructions provided in 40 CFR part 178 (see also Unit I.C. of the SUPPLEMENTARY INFORMATION).

ADDRESSES: The docket for this action, identified by docket identification (ID) number EPA-HQ-OPP-2020-0728, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001.

The Public Reading Room is open from 8:30 a.m. to 4:30 p.m., Monday through Friday, excluding legal holidays. The telephone number for the Public Reading Room and OPP Docket is (202) 566-1744. Due to the public health concerns related to COVID-19, the EPA Docket Center (EPA/DC) and Reading Room is open to visitors by appointment only. For the latest status information on EPA/DC services and access, visit https://www.epa.gov/dockets.

FOR FURTHER INFORMATION CONTACT: Marietta Echeverria, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get electronic access to other related information?

You may access a frequently updated electronic version of EPA's tolerance regulations at 40 CFR part 180 through the Office of the Federal Register's e-CFR site at https://www.ecfr.gov/current/title-40.

C. How can I file an objection or hearing request?

Under FFDCA section 408(g), 21 U.S.C. 346a(g), any person may file an objection to any aspect of this regulation and may also request a hearing on those objections. You must file your objection or request a hearing on this regulation in accordance with the instructions provided in 40 CFR part 178. To ensure proper receipt by EPA, you must identify docket ID number EPA-HQ-OPP-2020-0728 in the subject line on the first page of your submission. All objections and requests for a hearing must be in writing and must be received by the Hearing Clerk on or before July 22, 2022. Addresses for mail and hand delivery of objections and hearing requests are provided in 40 CFR 178.25(b).

In addition to filing an objection or hearing request with the Hearing Clerk as described in 40 CFR part 178, please submit a copy of the filing (excluding any Confidential Business Information (CBI)) for inclusion in the public docket. Information not marked confidential pursuant to 40 CFR part 2 may be disclosed publicly by EPA without prior notice. Submit the non-CBI copy of your objection or hearing request, identified by docket ID number EPA-HQ-OPP-2020-0728, by one of the following methods:

• Federal eRulemaking Portal: https://www.regulations.gov. Follow the online instructions for submitting comments. Do not submit electronically any information you consider to be CBI or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/contacts.html. Additional instructions on commenting or visiting the docket, along with more information about dockets generally, is available at https://www.epa.gov/dockets.

II. Summary of Petitioned-For Tolerance

In the Federal Register of June 1, 2021 (86 FR 29229) (FRL-10023-95), EPA issued a document pursuant to FFDCA section 408(d)(3), 21 U.S.C. 346a(d)(3), announcing the filing of a pesticide petition (PP 0F8838) by Valent U.S.A. LLC, 1600 Riviera Avenue, Suite 200 Walnut Creek, CA 94596 U.S.A. The petition requested that 40 CFR part 180 be amended by establishing tolerances for indirect or inadvertent residues of the fungicide Fluopicolide, 2,6-dichloro-N-[[3-chloro-5-(trifluoromethyl)-2-pyridyl]methyl]-benzamide, in or on Cereal grains (crop group 15), aspirated grain fractions at 0.07 parts per million (ppm); Cereal grains (crop group 15), grain at 0.02 ppm; Cereal grains (crop group 15), milled byproducts at 0.07 ppm; Cotton gin byproducts at 0.20 ppm; Foliage of legume vegetables (crop group 7), forage at 0.15 ppm; Foliage of legume vegetables (crop group 7), hay, straw, and vines at 0.20 ppm; Forage, fodder and straw of cereal grains (crop group 16) at 0.50 ppm; Grass forage, fodder, and hay (crop group 17) at 0.50 ppm; Legume vegetables (crop group 6), seed, pea, bean (succulent or dried, except listed beans) at 0.03 ppm; Nongrass animal feeds (crop group 18), forage, fodder, straw and hay at 0.50 ppm; Oilseeds (crop group 20), seed at 0.04 ppm; Oilseeds (crop group 20), refined oil at 0.10 ppm; Peanut nutmeat at 0.04 ppm; Peanut hay at 0.60 ppm; Peanut, refined oil at 0.10 ppm; and Soybean, refined oil at 0.08 ppm. That document referenced a summary of the petition prepared by Valent U.S.A. LLC, the registrant, which is available in the docket, EPA-HQ-OPP-2020-0728, https://www.regulations.gov. There were no comments received in response to the notice of filing.

Based upon review of the data supporting the petition, EPA has revised commodity definitions and is establishing several tolerances at different levels than petitioned-for. The reasons for these changes are explained in Unit IV.C.

III. Aggregate Risk Assessment and Determination of Safety

Section 408(b)(2)(A)(i) of FFDCA allows EPA to establish a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings but does not include occupational exposure. Section 408(b)(2)(C) of FFDCA requires EPA to give special consideration to exposure of infants and children to the pesticide chemical residue in establishing a tolerance and to “ensure that there is a reasonable certainty that no harm will result to infants and children from aggregate exposure to the pesticide chemical residue . . . .”

Consistent with FFDCA section 408(b)(2)(D), and the factors specified therein, EPA has reviewed the available scientific data and other relevant information in support of this action. EPA has sufficient data to assess the hazards of and to make a determination on aggregate exposure for fluopicolide including exposure resulting from the tolerances established by this action. EPA's assessment of exposures and risks associated with fluopicolide follows.

In an effort to streamline its publications in the Federal Register, EPA is not reprinting sections of the rule that would repeat what has been previously published in tolerance rulemakings for the same pesticide chemical. Where scientific information concerning a particular pesticide chemical remains unchanged, the content of those sections would not vary between tolerance rulemakings, and EPA considers referral back to those sections as sufficient to provide an explanation of the information EPA considered in making its safety determination for the new rulemaking.

EPA has previously published a number of tolerance rulemakings for fluopicolide, in which EPA concluded, based on the available information, that there is a reasonable certainty that no harm would result from aggregate exposure to fluopicolide and established tolerances for residues of that chemical. EPA is incorporating previously published sections from those rulemakings as described further in this rulemaking, as they remain unchanged.

Toxicological profile. For a discussion of the Toxicological Profile of fluopicolide and one of its metabolites, 2,6-dichlorobenzamide (BAM), see Unit III.A. of the previous tolerance rulemaking for fluopicolide published in the Federal Register of March 7, 2018 (83 FR 9703) (FRL-9973-44). Since the March 7, 2018, rulemaking, an additional oral toxicity study that included evaluation of the olfactory system was submitted for BAM, and the results have been incorporated into the current risk assessment. Toxicity to the olfactory sensory neurons was observed following a single intraperitoneal exposure of mice to BAM, as were clinical signs of toxicity (slightly decreased muscle tone, slight loss of pinnae reflexes) following oral exposure in several short-term assays. In the newly submitted oral toxicity study in rats, ataxia was observed in males; however, there were no effects on the olfactory system.

Toxicological points of departure/Levels of concern. For a summary of the Toxicological Points of Departure/Levels of Concern for both fluopicolide and BAM used for the risk assessment, see Unit III.B. of the March 7, 2018, rulemaking. The only change is for BAM, where the current risk assessment reports the no-observed adverse-effect concentration (NOAEC) as 12.1 mg/m³ for Inhalation Short- and Intermediate-Term (1-30 days and 1-6 months). The previous rulemaking reported this point of departure as a no-observed adverse-effect level (NOAEL) rather than a NOAEC, but the value remains the same.

Exposure assessment. Much of the exposure assessment remains the same, although the dietary exposure and risk assessments for fluopicolide and BAM were updated to account for exposures from the petitioned-for tolerances. These updates are discussed in this section; for a description of the rest of EPA's approach to and assumptions for the exposure assessment, including with respect to drinking water, non-occupational, and cumulative exposures, see Unit III.C. of the March 7, 2018, rulemaking.

EPA's dietary exposure assessments have been updated to include the additional exposures for the new tolerances for indirect or inadvertent residues of fluopicolide in the commodities identified in this action that are necessary to support revised rotational crop restrictions. There are no new use sites proposed. In addition, the dietary exposure assessments were revised to reflect the updated Dietary Exposure Evaluation Model that incorporates the What We Eat in America (WWEIA) consumption data from 2005-2010.

Fluopicolide acute dietary exposure and risk assessments are not required because an endpoint attributable to a single dose has not been identified. This is the same as in the 2018 rulemaking. Fluopicolide chronic dietary exposure used the same assumptions as the 2018 rulemaking concerning tolerance level residues or maximum field trial residues, 100 percent crop treated (PCT), default processing factors, and modeled drinking water estimates.

For BAM, the acute and chronic dietary exposure assessments assumed the maximum BAM residues from field trial data for either fluopicolide or dichlobenil (another active ingredient for which BAM is a metabolite), which is the same as in the 2018 rulemaking. The current acute and chronic dietary assessments were updated to assume 100 PCT, default processing factors, and high-end estimates of fluopicolide in drinking water.

Cancer. Fluopicolide has been classified as “not likely to be carcinogenic to humans.”

Therefore, a cancer dietary exposure assessment was not conducted for the parent fluopicolide. Additionally, EPA has determined BAM's potential for carcinogenicity is similar to that of dichlobenil, which is classified as “group C, possible human carcinogen.” Quantification of cancer risk is based on the reference dose (RfD) approach which requires comparison of the chronic exposure to the RfD. Using this methodology will adequately account for all chronic toxic effects, including carcinogenicity, likely to result from exposure to BAM. Hence, a separate cancer exposure assessment to BAM was not conducted.

Anticipated residue information. Section 408(b)(2)(E) of FFDCA authorizes EPA to use available data and information on the anticipated residue levels of pesticides in or on food and the actual residue levels of pesticides that have been measured in food. If EPA relies on such information, EPA must require pursuant to FFDCA section 408(f)(1) that data be provided 5 years after the tolerance is established, modified, or left in effect, demonstrating that the residue levels in food are not above the levels anticipated. For the present action, EPA will issue such data call-ins as are required by FFDCA section 408(b)(2)(E) and authorized under FFDCA section 408(f)(1). Data will be required to be submitted no later than 5 years from the date of issuance of these tolerances.

Safety factor for infants and children. EPA continues to conclude that there are reliable data to support the reduction of the Food Quality Protection Act (FQPA) safety factor to 1X for fluopicolide. For BAM, EPA continues to retain the FQPA safety factor of 10X for the acute dietary exposure scenario for the general population to account for the use of a lowest-observed-adverse-effect-level (LOAEL) to extrapolate to a NOAEL. For all other exposure scenarios, EPA continues to conclude that there are reliable data to support the reduction of the FQPA safety factor to 1X. See Unit III.D. of the March 7, 2018, rulemaking for a discussion of the Agency's rationale for these determinations.

Aggregate risks and determination of safety. EPA determines whether acute and chronic dietary pesticide exposures are safe by comparing dietary exposure estimates to the acute population-adjusted dose (aPAD) and the chronic population-adjusted dose (cPAD). Short-, intermediate-, and chronic-term risks are evaluated by comparing the estimated aggregate food, water, and residential exposure to the appropriate points of departure to ensure that an adequate margin of exposure (MOE) exists. For linear cancer risks, EPA calculates the lifetime probability of acquiring cancer given the estimated aggregate exposure.

An acute aggregate risk assessment takes into account acute exposure estimates from dietary consumption of food and drinking water. There were no endpoints attributable to a single dose identified in the hazard database and an acute dietary endpoint was not selected for fluopicolide. Therefore, fluopicolide is not expected to pose an acute risk.

For BAM, acute dietary risks are below the Agency's level of concern of 100% of the aPAD; they are 45% of the aPAD for infants less than 1 year old, which is the population subgroup with the highest exposure estimate. The acute aggregate risk estimates for BAM are equal to acute dietary (food and drinking water) risk estimates and therefore are not of concern. For fluopicolide, chronic dietary risks are below the Agency's level of concern of 100% of the cPAD; they are 15% of the cPAD for children 1-2 years old, which is the population subgroup with the highest exposure estimate.

For BAM, the chronic dietary risks are also below the Agency's level of concern; they are 40% of the cPAD for infants less than 1 year old, which is the population subgroup with the highest exposure estimate. As stated in the March 7, 2018, rulemaking, chronic residential exposure to residues of fluopicolide or BAM is not expected, so chronic aggregate risks are equal to chronic dietary risks and are not of concern.

Short-term aggregate risk estimates are equal to the most conservative residential exposure estimates plus chronic dietary exposure estimates (considered to be background dietary exposure). For adults and children 6 to <11 years old, the post-application dermal exposures from gardens treated with fluopicolide represent the most conservative residential exposure estimate. For children 1-2 years old, the most conservative residential exposure estimate is combined dermal and incidental oral exposure through high contact lawn activity. EPA has concluded the short-term aggregate MOEs are 500, 670, and 480 for adults, children 6 to <11 and children 1-2 years old, respectively, which are above the level of concern of 100 and therefore are not of concern. For BAM, dermal and inhalation exposures may not be combined with oral exposures due to different toxicological effects used as the basis of the selected endpoints. As a result, the aggregate risk estimates are equivalent to the dietary risk estimates and are not of concern.

Due to the absence of treatment-related tumors in two adequate rodent carcinogenicity studies, fluopicolide is classified as “not likely to be carcinogenic to humans”; therefore, a quantitative cancer assessment is not required.

EPA has assumed BAM's potential for carcinogenicity is similar to that of dichlobenil, which is classified as “group C, possible human carcinogen.” Quantification of cancer risk is based on the RfD approach which requires comparison of the chronic exposure to the RfD. Therefore, the chronic aggregate risk estimates, which do not trigger concerns based on exposures associated with the registered uses, are considered protective of both non-cancer and cancer effects.

Therefore, based on the risk assessments and information described above, EPA concludes there is a reasonable certainty that no harm will result to the general population, or to infants and children, from aggregate exposure to fluopicolide residues, including its metabolite. More detailed information on this action to establish indirect or inadvertent tolerances in or on multiple commodities can be found in the document entitled, “Fluopicolide. Human Health Risk Assessment to Support a Petition to Establish Tolerances for Indirect or Inadvertent Residues in/on Legume Vegetables, Cereal Grains, Grasses, Nongrass Animal Feeds, Oilseeds, and Peanuts” at https://www.regulations.gov, under docket ID number EPA-HQ-OPP-2020-0728.

IV. Other Considerations

A. Analytical Enforcement Methodology

For the analytical enforcement methodology for fluopicolide and BAM, see Unit IV.A. of the March 7, 2018, rulemaking.

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). EPA may establish a tolerance that is different from a Codex MRL; however, FFDCA section 408(b)(4) requires that EPA explain the reasons for departing from the Codex level. The Codex has established MRLs for fluopicolide in or on straw and fodder (dry) of cereal grains at 0.2 ppm, which is the only Codex MRL for the commodities covered by this rulemaking. This MRL is different than the U.S. tolerance at 0.5 ppm that is being established for residues of fluopicolide in/on grain, cereal, forage, fodder, and straw, group 16. EPA cannot harmonize the U.S. tolerance for group 16 with the corresponding Codex MRL because it could put U.S. growers at risk of violative residues despite legal use of fluopicolide.

C. Revisions to Petitioned-For Tolerances

EPA is not establishing the petitioned-for tolerances on Oilseeds (crop group 20), refined oil at 0.10 ppm or Peanut, refined oil at 0.10 ppm because the Agency is establishing tolerances for the respective raw agricultural commodities, Oilseed group 20 at 0.03 ppm, and Peanut at 0.03 ppm, which are adequate to cover the refined oils.

EPA is establishing the tolerance level for Soybean, refined oil at 0.03 ppm, which is the level calculated by multiplying average residue by the processing factor. This tolerance level is lower than the petitioned-for tolerance level of 0.08 ppm. The petitioner did not provide a rationale for the petitioned-for tolerance level, so the reason for this difference is unclear.

Additionally, EPA is revising many of the commodity definitions for consistency with the Agency's preferred terminology for tolerances. EPA is also establishing several tolerances at different levels than petitioned-for to be consistent with Organization for Economic Cooperation and Development (OECD) rounding class practice. Specifically, EPA is:

• Revising “Nongrass animal feeds (crop group 18), forage, fodder, straw and hay” to “Animal feed, nongrass, group 18” and establishing the tolerance level at 0.5 ppm instead of the petitioned-for 0.50 ppm;

• Revising “Cereal grains (crop group 15), aspirated grain fractions” to “Grain, aspirated fractions” and establishing the tolerance level at 0.07 ppm;

• Revising “Cereal grains (crop group 15), grain” to “Grain, cereal, group 15” and establishing the tolerance level at 0.02 ppm;

• Revising “Cereal grains (crop Group 15), milled byproducts” to “Grain, cereal, group 15, milled byproducts” and establishing the tolerance level at 0.07 ppm;

• Establishing the tolerance level for “Cotton, gin byproducts” at 0.2 ppm instead of the petitioned-for 0.20 ppm;

• Revising “Forage, fodder and straw of cereal grains (crop group 16)” to “Grain, cereal, forage, fodder, and straw, group 16” and establishing the tolerance level at 0.5 ppm instead of the petitioned-for 0.50 ppm;

• Revising “Grass forage, fodder, and hay (crop group 17)” to “Grass forage, fodder and hay, group 17” and establishing the tolerance level at 0.5 ppm instead of the petitioned-for 0.50 ppm;

• Revising “Oilseeds (crop group 20), seed” to “Oilseed group 20” and establishing the tolerance level at 0.03 ppm instead of the petitioned-for 0.04 ppm;

• Revising “Peanut nutmeat” to “Peanut” and establishing the tolerance level at 0.03 ppm instead of the petitioned-for 0.04 ppm;

• Establishing the tolerance level for “Peanut, hay” at 0.7 ppm instead of the petitioned-for 0.60 ppm;

• Revising the petitioned-for tolerances for “Foliage of legume vegetables (crop group 7), forage” at 0.15 ppm and “Foliage of legume vegetables (crop group 7), hay, straw, and vines” at 0.20 ppm to “Vegetable, foliage of legume, group 7” at 0.2 ppm; and

• Revising “Legume vegetables (crop group 6), seed, pea, bean (succulent or dried, except listed beans)” to “Vegetable, legume, group 6” and establishing the tolerance level at 0.02 ppm instead of the petitioned-for 0.03 ppm.

• In addition, EPA is removing the existing tolerances for indirect or inadvertent residues in 40 CFR 180.627(d) because these commodities are included in the groups 15 and 16 tolerances that the Agency is establishing in this action. For example, the commodities “corn, field, grain” (with an existing tolerance level of 0.01 ppm) and “wheat, grain” (with an existing tolerance level of 0.02 ppm) are included in the new tolerance for indirect or inadvertent residues in “grain, cereal, group 15” at 0.02 ppm. The new tolerances are equal to or higher than the existing tolerances and are therefore adequate to cover indirect or inadvertent residues on these commodities.

V. Conclusion

Therefore, tolerances are established for indirect or inadvertent residues of Fluopicolide, [2,6-dichloro-N-[[3-chloro-5-(trifluoromethyl)-2-pyridinyl]methyl]benzamide], including its metabolites and degradates, in or on Animal feed, nongrass, group 18 at 0.5 ppm; Cotton, gin byproducts at 0.2 ppm; Grain, aspirated fractions at 0.07 ppm; Grain, cereal, group 15 at 0.02 ppm; Grain, cereal, group 15, milled byproducts at 0.07 ppm; Grain, cereal, forage, fodder, and straw, group 16 at 0.5 ppm; Grass, forage, fodder and hay, group 17 at 0.5 ppm; Oilseed group 20 at 0.03 ppm; Peanut at 0.03 ppm; Peanut, hay at 0.7 ppm; Soybean, refined oil at 0.03 ppm; Vegetable, foliage of legume, group 7 at 0.2 ppm; and Vegetable, legume, group 6 at 0.02 ppm.

Upon establishment of the aforementioned tolerances, the established tolerances for indirect or inadvertent residues of fluopicolide in 40 CFR 180.627(d) will be removed, as they are superseded by the new tolerances.

VI. Statutory and Executive Order Reviews

This action establishes tolerances under FFDCA section 408(d) in response to a petition submitted to the Agency. The Office of Management and Budget (OMB) has exempted these types of actions from review under Executive Order 12866, entitled “Regulatory Planning and Review” (58 FR 51735, October 4, 1993). Because this action has been exempted from review under Executive Order 12866, this action is not subject to Executive Order 13211, entitled “Actions Concerning Regulations That Significantly Affect Energy Supply, Distribution, or Use” (66 FR 28355, May 22, 2001) or Executive Order 13045, entitled “Protection of Children from Environmental Health Risks and Safety Risks” (62 FR 19885, April 23, 1997). This action does not contain any information collections subject to OMB approval under the Paperwork Reduction Act (PRA) (44 U.S.C. 3501 et seq.), nor does it require any special considerations under Executive Order 12898, entitled “Federal Actions to Address Environmental Justice in Minority Populations and Low-Income Populations” (59 FR 7629, February 16, 1994).

Since tolerances and exemptions that are established on the basis of a petition under FFDCA section 408(d), such as the tolerances in this final rule, do not require the issuance of a proposed rule, the requirements of the Regulatory Flexibility Act (RFA) (5 U.S.C. 601 et seq.), do not apply.

This action directly regulates growers, food processors, food handlers, and food retailers, not States or tribes, nor does this action alter the relationships or distribution of power and responsibilities established by Congress in the preemption provisions of FFDCA section 408(n)(4). As such, the Agency has determined that this action will not have a substantial direct effect on States or tribal governments, on the relationship between the national government and the States or tribal governments, or on the distribution of power and responsibilities among the various levels of government or between the Federal Government and Indian tribes. Thus, the Agency has determined that Executive Order 13132, entitled “Federalism” (64 FR 43255, August 10, 1999) and Executive Order 13175, entitled “Consultation and Coordination with Indian Tribal Governments” (65 FR 67249, November 9, 2000) do not apply to this action. In addition, this action does not impose any enforceable duty or contain any unfunded mandate as described under Title II of the Unfunded Mandates Reform Act (UMRA) (2 U.S.C. 1501 et seq.).

This action does not involve any technical standards that would require Agency consideration of voluntary consensus standards pursuant to section 12(d) of the National Technology Transfer and Advancement Act (NTTAA) (15 U.S.C. 272 note).

VII. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: May 17, 2022.
Marietta Echeverria,
Acting Director, Registration Division, Office of Pesticide Programs.

Therefore, for the reasons stated in the preamble, 40 CFR chapter I is amended as follows:

PART 180—TOLERANCES AND EXEMPTIONS FOR PESTICIDE CHEMICAL RESIDUES IN FOOD

1. The authority citation for part 180 continues to read as follows:

Authority: 21 U.S.C. 321(q), 346a and 371.

2. In § 180.627 amend paragraph (d) by designating the table as table 1 and revising newly designated table 1 to read as follows:

§ 180.627 Fluopicolide; tolerances for residues.

* * * * *

(d) * * *

Table 1 to Paragraph (d)
Commodity | Parts per million
Animal feed, nongrass, group 18 | 0.5
Cotton, gin byproducts | 0.2
Grain, aspirated fractions | 0.07
Grain, cereal, group 15 | 0.02
Grain, cereal, group 15, milled byproducts | 0.07
Grain, cereal, forage, fodder, and straw, group 16 | 0.5
Grass, forage, fodder and hay, group 17 | 0.5
Oilseed group 20 | 0.03
Peanut | 0.03
Peanut, hay | 0.7
Soybean, refined oil | 0.03
Vegetable, foliage of legume, group 7 | 0.2
Vegetable, legume, group 6 | 0.02

[FR Doc. 2022-10868 Filed 5-20-22; 8:45 am]

BILLING CODE 6560-50-P